ENVIRONMENTAL PROTECTION AGENCY

[CO-001-0071; FRL-7400-8]

Adequacy Status of the Lamar and Steamboat Springs, CO PM10 Maintenance Plans for Transportation Conformity Purposes

AGENCY: Environmental Protection Agency (EPA).

ACTION: Notice of adequacy.

SUMMARY: In this document, EPA is notifying the public that we have found that the motor vehicle emissions budgets in the Lamar and Steamboat Springs, Colorado particulate matter of 10 micrograms in size or smaller (PM10) maintenance plans submitted on July 31, 2002, are adequate for conformity purposes. On March 2, 1999, the DC Circuit Court ruled that budgets in submitted State Implementation Plans (SIPs) cannot be used for conformity determinations until EPA has affirmatively found them adequate. As a result of our finding, the City of Lamar, the City of Steamboat Springs, the Colorado Department of Transportation and the U.S. Department of Transportation are required to use the motor vehicle emissions budgets from these submitted maintenance plans for future conformity determinations.

DATES: This finding is effective November 12, 2002.

FOR FURTHER INFORMATION CONTACT: Kerri Fiedler, Air & Radiation Program (8P-AR), United States Environmental Protection Agency, Region 8, 999 18th Street, Suite 300, Denver, Colorado 80202-2466, (303) 312-6493. The letter documenting our finding is available at EPA's conformity Web site: http://www.epa.gov/oms/transp/conform/adequacy.htm.

SUPPLEMENTARY INFORMATION: Throughout this document wherever “we”, “us”, or “our” are used we mean EPA.

This action is simply an announcement of a finding that we have already made. We sent a letter to the Colorado Air Pollution Control Division on September 25, 2002 stating that the motor vehicle emissions budgets in the submitted Lamar and Steamboat Springs PM10 maintenance plans are adequate. This finding has also been announced on our conformity Web site at http://www.epa.gov/oms/transp/conform/adequacy.htm.

Transportation conformity is required by section 176(c) of the Clean Air Act. Our conformity rule requires that transportation plans, programs, and projects conform to SIPs and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from our completeness review, and it also should not be used to prejudge our ultimate approval of the SIP. Even if we find a budget adequate, the SIP could later be disapproved, and vice versa.

We've described our process for determining the adequacy of submitted SIP budgets in a memo entitled, “Conformity Guidance on Implementation of March 2, 1999 Conformity Court Decision,” dated May 14, 1999. We followed this guidance in making our adequacy determination.

Authority: 42 U.S.C. 7401 et seq.

Dated: October 21, 2002.
Robert E. Roberts,
Regional Administrator, Region VIII.

[FR Doc. 02-27345 Filed 10-25-02; 8:45 am]

BILLING CODE 6560-50-P